NATIONAL AERONAUTICS AND SPACE ADMINISTRATION

[Notice: (14-133)]

NASA Advisory Council; Science Committee; Meeting

AGENCY: National Aeronautics and Space Administration.

ACTION: Notice of meeting.

SUMMARY: In accordance with the Federal Advisory Committee Act, Public Law 92-463, as amended, the National Aeronautics and Space Administration (NASA) announces a meeting of the Science Committee of the NASA Advisory Council (NAC). This Committee reports to the NAC. The meeting will be held for the purpose of soliciting, from the scientific community and other persons, scientific and technical information relevant to program planning.

DATES: Monday, January 12, 2015, 8:00 a.m. to 5:30 p.m.; and Tuesday, January 13, 2015, 8:30 a.m. to 5:15 p.m., Local Time.

ADDRESSES: NASA Stennis Space Center, Roy S. Estess Building, Santa Rosa Conference Room 11111 (January 12, 8:00 a.m. to 12:00 p.m.), Logtown Conference Room 11161 (January 12, 1:00 p.m. to 5:30 p.m.) and the Santa Rosa Conference Room 11111 (January 13, 8:30 a.m. to 5:15 p.m.), Stennis Space Center, MS 39529-6000.

FOR FURTHER INFORMATION CONTACT: Ms. Ann Delo, Science Mission Directorate, NASA Headquarters, Washington, DC 20546, (202) 358-0750, fax (202) 358-2779, or ann.b.delo@nasa.gov.

SUPPLEMENTARY INFORMATION: The meeting will be open to the public up to the capacity of the room. The meeting will also be available telephonically and by WebEx. You must use a touch tone phone to participate in this meeting. Any interested person may call the USA toll free conference call number 800-988-9663, pass code 8015, to participate in this meeting by telephone on both days. A toll number also is available, 517-308-9483 for January 12, and 517-308-9054 for January 13, pass code 8015 for each day. The WebEx link is https://nasa.webex.com/; the meeting number on January 12 beginning at 8:00 a.m. through 12:00 p.m. is 992 598 539, and the password is Science@Jan12 (case sensitive). The meeting number on January 12 beginning at 1:00 p.m. through 5:30 p.m. is 994 136 621, and the password is ScienceHEO@Jan12 (case sensitive). The meeting number on January 13 is 994 285 340 and the password is Science@Jan13 (case sensitive). The agenda for the meeting includes the following topics:

—Research and Analysis

—Ad Hoc Task Force on Big Data

—Technology Infusion

—Subcommittee Reports

—Joint Session with NAC Human Exploration and Operations Committee

—Human Exploration and Operations Mission Directorate/Science Mission Directorate Joint Activities

—Evolvable Mars Campaign

The meeting will be open to the public up to the seating capacity of the rooms. Attendees will be required to sign a register and comply with NASA Stennis Space Center security requirements, including the presentation of a valid picture ID before receiving access to NASA Stennis Space Center. Due to the Real ID Act, any attendees with drivers licenses issued from non-compliant states must present a second form of ID [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Louisiana, Maine, Minnesota, New York, Oklahoma and Washington. Foreign nationals attending this meeting will be required to provide a copy of their passport and visa in addition to providing the following information no less than 20 days prior to the meeting: full name; home address; gender; citizenship; date/city/country of birth; title, position or duties; visa type, number and expiration date; passport number, expiration date and country of issue; green card number; and employer/affiliation information (name of institution, address, country, telephone, email, phone). Contact the International Visitor Coordinator, Mary Treat, at (228) 688-3916 for the specifics on any foreign national visitors. To expedite admittance, attendees with U.S. citizenship and Permanent Residents (green card holders) can provide identifying information 3 working days in advance by emailing the NASA Office of Communications at SSC-PAO@mail.nasa.gov. It is imperative that the meeting be held on this date to accommodate the scheduling priorities of the key participants.

Patricia D. Rausch,
Advisory Committee Management Officer, National Aeronautics and Space Administration.

[FR Doc. 2014-29623 Filed 12-17-14; 8:45 am]

BILLING CODE 7510-13-P